DEPARTMENT OF LABOR

Mine Safety and Health Administration

Petitions for Modification

The following parties have filed petitions to modify the application of existing safety standards under section 101(c) of the Federal Mine Safety and Health Act of 1977.

1. Apple Jacks Coal Company, Inc.

[Docket No. M-2004-043-C]

Apple Jacks Coal Company, Inc., Box 584, North Tazewell, Virginia 24630 has filed a petition to modify the application of 30 CFR 75.1710-1 (Canopies and cabs; self-propelled diesel-powered and electric face equipment; installation requirements) to its Mine No. 3 (MSHA I.D. No. 44-06939) located in Dickenson County, Virginia. The petitioner proposes to operate self-propelled electric face equipment without canopies in seam heights of 48 inches or less. The petitioner asserts that application of the existing standard at the Mine No. 3 will result in a diminution of safety to the miners.

2. Maple Creek Mining, Inc.

[Docket No. M-2004-044-C]

Maple Creek Mining, Inc., 981 Route 917, Bentleyville, Pennsylvania 15314 has filed a petition to modify the application of 30 CFR 75.507 (Power connection points) to its High Quality Mine (MSHA I.D. No. 36-08375) located in Washington County, Pennsylvania. The petitioner proposes to use low and medium volt, three phase, alternating current, non-permissible, submersible pump(s) in return and bleeder entries and sealed areas, conditioned upon the specific terms and conditions listed in this petition for modification. The petitioner asserts that the proposed alternative method would provide at least the same measure of protection as the existing standard; pumps will be limited to low or medium voltages; and the pump motor will be maintained under water at all times to isolate it from the mine atmosphere.

3. Consolidation Coal Company

[Docket No. M-2004-045-C]

Consolidation Coal Company, 1800 Washington Road, Pittsburgh, Pennsylvania 15241 has filed a petition to modify the application of 30 CFR 75.364(b) (Weekly examination) to its Blacksville No. 2 Mine (MSHA I.D. No. 46-01968) located in Monongalia County, West Virginia. The petitioner proposes to establish checkpoints in certain areas of the return aircourse due to deteriorating roof conditions. The petitioner will establish checkpoints numbers B-CK-10 and B-CK-11 to measure the quantity and quality of air at the inlet to the affected aircourse, and checkpoint number B-CK-12 to measure the quantity and quality of air at the outlet from the affected aircourse. The petitioner states that the checkpoints will be maintained in safe condition at all times; tests for methane and the quantity of air at each checkpoint will be determined weekly by a certified person; and the certified person will place his/her initials and date in a record book that will be kept on the surface and made available for inspection by interested persons. The certified person will also place his/her initials, and date on a date board at the checkpoint sites. The petitioner asserts that the proposed alternative method would provide at least the same measure of protection as the existing standard.

Request for Comments

Persons interested in these petitions are encouraged to submit comments via Federal eRulemaking Portal: http://www.regulations.gov; E-mail: Comments@MSHA.gov; Fax: (202) 693-9441; or Regular Mail/Hand Delivery/Courier: Mine Safety and Health Administration, Office of Standards, Regulations, and Variances, 1100 Wilson Boulevard, Room 2350, Arlington, Virginia 22209. All comments must be postmarked or received in that office on or before December 3, 2004. Copies of these petitions are available for inspection at that address.

Dated at Arlington, Virginia this 28th day of October 2004.
Marvin W. Nichols, Jr.,
Director, Office of Standards, Regulations, and Variances.

[FR Doc. 04-24523 Filed 11-2-04; 8:45 am]

BILLING CODE 4510-43-P